DEPARTMENT OF COMMERCE

National Oceanic and Atmospheric Administration

[I.D. 040502A]

Endangered and Threatened Species; Take of Anadromous Fish

AGENCY: National Marine Fisheries Service (NMFS), National Oceanic and Atmospheric Administration (NOAA), Commerce.

ACTION: Receipt of applications for scientific research permits (1362, 1363, 1364, 1365, 1366, 1367, 1369, 1370, 1371, 1372, 1376) and receipt of applications to modify research permits (1135, 1141, 1177, 1315, 1317, 1322).

SUMMARY: NMFS has received 11 new scientific research permit applications and six applications to modify existing scientific research permits related to Pacific salmon and steelhead. The proposed research is intended to increase knowledge of the listed species and to help guide management and conservation efforts.

DATES: Written comments or requests for a public hearing on any of the new applications or modification requests must be received at the appropriate address or fax number (see ADDRESSES) no later than 5 p.m. Pacific daylight savings time on May 13, 2002.

ADDRESSES: Written comments on any of the new applications or modification requests should be sent to Protected Resources Division, F/NWO3, 525 NE Oregon Street, Suite 500, Portland, OR 97232-2737 (503-230-5400). Comments may also be sent via fax to 503-230-5435. Comments will not be accepted if submitted via e-mail or the Internet.

FOR FURTHER INFORMATION CONTACT: Steve Stone, Portland, OR (ph: 503-231-2317, Fax: 503-230-5435, e-mail: steve.stone@noaa.gov)

SUPPLEMENTARY INFORMATION:

Species Covered in This Notice

The following species are covered in this notice:

Chinook salmon (Oncorhynchus tshawytscha): threatened, Puget Sound (PS); threatened Lower Columbia River (LCR), threatened Snake River (SnR) spring/summer and fall; endangered Upper Columbia River (UCR); threatened Upper Willamette River (UWR).

Coho salmon (O. kisutch): threatened Southern OR/Northern CA Coasts (SONCC).

Sockeye salmon (O. nerka); endangered Snake River (SnR)

Steelhead (O. mykiss): endangered UCR, threatened LCR, threatened Middle Columbia River (MCR), and threatened SnR.

Authority

Scientific research and/or enhancement permits are issued under Section 10(a)(1)(A) of the Endangered Species Act of 1973 (ESA) (16 U.S.C. 1531 et seq). Issuance of permits and permit modifications, as required by the ESA, is based on a finding that such permits/modifications: (1) are applied for in good faith; (2) would not operate to the disadvantage of the listed species that are the subject of the permits; and (3) are consistent with the purposes and policies set forth in section 2 of the ESA. Authority to take listed species is subject to conditions set forth in the permits. Permits and modifications are issued in accordance with and are subject to the ESA and NMFS regulations governing listed fish and wildlife permits (50 CFR Parts 222-226).

Those individuals requesting a hearing on an application listed in this notice should set out the specific reasons why a hearing on that application would be appropriate (see ADDRESSES). The holding of such hearings is at the discretion of the Assistant Administrator for Fisheries, NOAA. All statements and opinions contained in the permit action summaries are those of the applicant and do not necessarily reflect the views of NMFS.

New Applications Received

Permit 1362

The Idaho Cooperative Fish and Wildlife Research Unit (ICFWRU) requests a 3-year permit (1362) for take of adult, threatened, artificially propagated, SnR spring/summer chinook salmon associated with a scientific research project proposed to occur at Bonneville Dam on the lower Columbia River, Lower Granite Dam on the lower Snake River, and in the tributaries of the upper Salmon River in Idaho. The objective of the research is to evaluate the energy costs, survival, and reproductive success of adult salmon associated with their passage around the hydropower dams on the mainstem Columbia and Snake Rivers. Information collected from the research will be used directly by managers to operate fishways and manage spill and flow regimes to maximize passage and survival of adult salmonids at the dams. As many as 200 adult, threatened, artificially propagated, SnR spring/summer chinook salmon that originated from the upper Salmon River region are proposed to be lethally taken in 2002 to obtain energy use data. In addition, ICFWRU requests take to collect tissues from ESA-listed adult salmon carcasses in the upper Salmon River region.

Permit 1363

The Fish Passage Center (FPC) requests a 5-year permit (1363) for annual takes of juvenile, threatened, naturally produced, SnR spring/summer chinook salmon and juvenile, threatened, SnR steelhead associated with a project designed to measure the smolt-to-adult survival rates of hatchery and wild spring/summer chinook salmon and hatchery steelhead from representative sites in the Snake, mid-Columbia River, and lower Columbia River basins. The data will be useful in the development of future long-term mitigation measures at the hydroelectric dams on the Snake and Columbia Rivers, such as flow augmentation, spill, and juvenile fish transportation. The wild runs of SnR spring and summer chinook salmon and steelhead were relatively strong in 2000 and 2001. An opportunity exists to tag enough wild juvenile chinook salmon and steelhead for the 2002 to 2004 outmigrations to provide a comparison between smolt-to-adult survival rates of transported and inriver wild migrants, as well as between Snake River and downriver wild stocks with similar life history characteristics. ESA-listed juvenile salmon and steelhead are proposed to be captured at traps located on the Snake, Salmon, and Clearwater Rivers in Idaho and the Grande Ronde River in Oregon. Captured ESA-listed juvenile salmon and steelhead are proposed to be tagged with passive integrated transponders and released. FPC estimates that as many as 167 ESA-listed juvenile salmon and as many as 100 ESA-listed juvenile steelhead indirect mortalities may occur each year associated with the research.

Permit 1364

The Idaho Fishery Resource Office of the U.S. Fish and Wildlife Service (USFWS) requests a 1-year permit (1364) for takes of juvenile, threatened, SnR fall chinook salmon and juvenile, threatened, SnR steelhead associated with a continuing project designed to evaluate the Dworshak National Fish Hatchery steelhead program in Idaho and its impacts on ESA-listed salmon and steelhead in the vicinity of the hatchery. As a result of non-listed steelhead releases from the hatchery, the potential exists for competition, increased stress, behavior modification, predation, and genetic risks between hatchery steelhead and ESA-listed wild salmon and steelhead stocks. The goal of the project is to better understand the extent to which these potential risks affect ESA-listed salmon and steelhead stocks and to be able to recommend appropriate actions to limit those risks. ESA-listed juvenile salmon and steelhead are proposed to be observed/harassed during snorkel surveys or captured using boat or backpack electrofishing, sampled for biological information and tissue samples, and released. USFWS estimates that as many as five ESA-listed juvenile salmon and as many as 16 ESA-listed juvenile steelhead indirect mortalities may occur associated with the research..

Permit 1365

The Confederated Tribes of the Umatilla Indian Reservation (CTUIR) requests a 2-year permit (1365) for annual takes of threatened, adult MCR steelhead associated with research activities to be conducted in the Umatilla and Walla Walla River basins. The purpose of the study is to determine the temporal and spatial distribution of hatchery and natural steelhead adult spawners in the headwater reaches. The study will provide additional life history information about MCR steelhead required for further development of a steelhead restoration plan in the Walla Walla River subbasin. The CTUIR proposes to capture (using hook and line, beach seines and Merwin traps), radio tag, and release 120 adult MCR steelhead. The CTUIR also requests indirect mortality of three adult MCR steelhead associated with the study.

Permit 1366

The Oregon Cooperative Fish and Wildlife Research Unit (OCFWRU) requests a 5-year permit (1366) for annual takes of the juvenile life forms of all of the ESA-listed anadromous fish ESUs identified in this notice associated with a research project proposed to occur at Lower Granite Dam on the lower Snake River and McNary and Bonneville Dams on the lower Columbia River. The purpose of the research is to compare biological and physiological indices of wild and hatchery juvenile fish exposed to stress from bypass, collection, and transportation activities at the dams. The research will improve the survival of the ESA-listed species at the dams by providing information that will be used to determine the effects of the manmade structures and associated management activities on the outmigrating salmonids. ESA-listed juvenile fish are proposed to be captured using lift nets or dipnets at the dams (or acquired from Smolt Monitoring Program or NMFS personnel at Bonneville Dam), sampled for biological information or tagged with radiotransmitters, and released. Up to 3 percent of the ESA-listed juvenile fish handled each year may be indirectly killed. In addition, OCFWRU requests intentional lethal takes of ESA-listed juvenile fish associated with the research.

Permit 1367

The Northwest Fishery Science Center (NWFSC) requests a 3-year permit (1367) for annual takes of threatened, juvenile MCR steelhead associated with research activities in the Yakima River, WA. The purpose of the study is to estimate the incidence of precocious maturation and characterize the related maturational physiology in wild Yakima River salmonids in comparison to hatchery reared cohorts. The study will provide information on listed species’ life histories. The NWFSC proposes to capture (using backpack electrofishing equipment), handle, and release 15 juvenile MCR steelhead.

Permit 1369

The King County Department of Natural Resources (KCDNR) requests a 5-year permit (1369) for annual takes of juvenile, naturally produced PS chinook salmon associated with scientific research to be conducted in several Puget Sound subbasins. The purpose of the study is to investigate scientific issues pertaining to how salmonid habitat in King County can be protected while concurrently providing local farmers with the technical and regulatory means to drain their farmlands to continue agricultural production. This program will develop a comprehensive information base about the habitat quality; the extent of the current and potential salmonid use of habitat where most commercial agriculture occurs; and techniques to avoid, minimize, or mitigate agriculture-related impacts on listed salmonids and their habitat. KCDNR proposes to capture (using fyke nets, minnow traps, and backpack electrofishing equipment), anesthetize, handle, and release eight juvenile and two adult PS chinook salmon. KCDNR also requests indirect mortality of two juvenile PS chinook salmon associated with the study.

Permit 1370

The Utah State University (USU) requests a 1-year permit (1370) for annual takes of threatened, adult and juvenile SnR spring/summer chinook salmon associated with research designed to estimate populations of listed fish at various life stages. The study will provide information that will allow researchers to improve SnR chinook habitat. The USU proposes to observe/harass 1,200 juvenile and 30 adult listed chinook and 600 juveniles and 25 adult listed steelhead. In addition, the USU proposes to capture (using boat electrofishing and blocknets), handle and release 800 juvenile and 10 adult SnR spring/summer chinook salmon and 690 juvenile and 25 adult SnR steelhead. USU also requests indirect mortality of 16 juvenile SnR chinook salmon and 12 juvenile SnR steelhead associated with the research.

Permit 1371

The Battelle Marine Sciences Laboratory (BMSL) requests a 1-year permit (1371) for annual takes of juvenile, naturally produced PS chinook salmon associated with scientific research to be conducted at the Mukilteo, WA, ferry terminal in Possession Sound. The purpose of the study is to assess potential predation on salmon fry near ferry terminals, and if so, determine how future design and modifications to terminal structures and operation can reduce these impacts. Specific goals of this research are to (1) determine whether potential salmon predators are more abundant near terminals or aggregate near terminals during juvenile salmon outmigration, (2) establish spatial and temporal patterns of potential predator abundance near terminals, (3) assess whether potential salmon predators consume more juvenile salmon near terminals, and (4) create standardized protocols for evaluating predator effects at other terminals. BMSL proposes to capture (using beach and purse seines, fish traps, trammel nets, and hook-and-line), handle, anaesthetize, and release 100 naturally produced, juvenile PS chinook salmon and subject 10 juvenile PS chinook salmon to stomach content analysis. BMSL also requests indirect mortality of 30 juvenile PS chinook salmon associated with the study.

Permit 1372

The Puget Sound Energy (PSE) requests a 3-year permit (1372) for annual takes of juvenile, naturally-produced and artificially-propagated PS chinook salmon associated with several studies to be conducted in the Baker and Skagit Rivers. The purposes of the studies are to assess habitat conditions and fish use in these watersheds. The objective of the proposed research is to describe specific aspects of fish habitat conditions and use that are potentially affected by the operation of the Baker River Dams. The results of the study will provide information needed to complete the National Environmental Policy Act environmental analysis in support of the Federal Power Commission relicensing of the upper and lower Baker River Dams. In addition, the information will be used to develop strategies to protect and enhance fish production and habitat and assist in the recovery of listed salmon. The PSE proposes to harass (snorkel surveys) adult PS chinook salmon, capture (using fyke nets, beach seines, minnow traps, and backpack electrofishing equipment), anesthetize, handle, and release 1,457 juvenile PS chinook salmon. The PSE also requests indirect mortality of 59 juvenile PS chinook salmon associated with the study.

Permit 1376

The Washington Cooperative Fish and Wildlife Research Unit, University of Washington (UW) requests a 1-year permit for annual takes of juvenile, naturally produced PS chinook salmon associated with research to be conducted in Lakes Washington and Sammamish. The purpose of the research is to understand food web interactions, identify sources of mortality, and determine the energetic requirements to sustain fish and zooplankton communities in each lake. The study will help researchers identify and quantify factors limiting survival and growth of juvenile salmon and other species. The UW proposes to capture, anesthetize, handle, measure, weigh, and release 92 juvenile and four adult PS chinook salmon and subject a subset to stomach analysis. The UW also requests indirect mortality of 14 juvenile PS chinook salmon associated with the study.

Modification Requests Received

Permit 1135-Modification 1

The U.S. Geological Survey (USGS) requests a modification to permit 1135 for annual takes of LCR chinook salmon and additional annual takes of adult and juvenile LCR steelhead associated with research designed to provide information on the survival rates, growth rates, habitat use, population densities, health, and life history diversity of steelhead in the Wind River Basin of southern Washington. The research will provide information that will assist state, tribal, and Federal managers in their effort to restore LCR steelhead populations and habitat. The USGS proposes to observe/harass adult and juvenile steelhead and chinook during snorkel surveys and during habitat surveys at selected sites in the basin. The USGS also proposes to capture (using backpack electrofishing), handle, and release 5,000 juvenile LCR chinook salmon and an additional 4,500 juvenile LCR steelhead, mark (using passive integrated transponder tags) and take tissues/scale samples from 1,500 juvenile LCR steelhead, and sacrifice 50 juvenile LCR chinook salmon and 50 juvenile LCR steelhead. The USGS requests indirect mortality of 200 juvenile chinook salmon and 250 juvenile LCR steelhead associated with the study.

Permit 1141-Modification 3

The Public Utility District No.2 of Grant County (Grant PUD) requests a modification to permit 1141 that would add a new study to annually take threatened, juvenile UCR spring chinook salmon associated with research conducted at Priest Rapids and Wanapum Dams. The purpose of the study is to (1) estimate dam and pool passage survival of ESA-listed fish at Wanapum and Priest Rapids Dams respectively; (2) assess travel times, approach routes and other behavioral aspects of yearling salmonids in the forebay of Wanapum and Priest Rapids Dams; and (3) assess smolt survival for spill gates at Wanapum Dam. Information from the study will help increase yearling survival through Wanapum and Priest Rapids Dams. The Grant PUD proposes to capture, mark (balloon tag and radio tag), and release 2,380 juvenile UCR spring chinook salmon. Listed spring chinook salmon will be collected from gatewells at Wanapum and Priest Rapids Dams by a crane operated dipnet. In addition, Grant PUD proposes to lethally take up to 20 juvenile UCR spring chinook salmon. The Grant PUD also requests indirect mortality of 48 juvenile UCR spring chinook salmon associated with the research.

Permit 1177-Modification 1

The Portland District Corps of Engineers (COE) requests a modification to Permit 1177 for additional annual takes of adult and juvenile, threatened SONCC coho salmon associated with research and an adult trap-and-haul program at Elk Creek Dam on the Rogue River in Oregon. The trap-and-haul program is designed to move returning SONCC coho above an impassable barrier so that the fish may use upstream habitat for natural spawning, thus increasing salmon production. The research will determine the annual spawning success of fish upstream of the dam. The COE also proposes to capture (using a weir below the dam), anesthetize, transport above the dam, tag with an opercle punch, allow to recover, and release 1,600 adult SONCC coho salmon. The adult salmon will be recaptured to estimate the number of fish that pass downstream over the weir. In addition, 45 adult fish carcasses will be examined for evidence of spawning and immediately returned to the stream. The COE research proposal also anticipates observing/harassing 300 juvenile listed coho salmon during snorkel surveys.

Permit 1315-Modification 1

The Seattle District COE requests a modification to permit 1315, which currently authorizes annual takes of PS chinook salmon for four studies. The modification will include the following studies:

Study 1. The take in study 1 is associated with research designed to determine the effectiveness of habitat restoration projects in tributaries of Lake Washington. The information will help improve restoration projects and increase knowledge of chinook salmon habitat use in the Lake Washington watershed.

Study 2. The take in study 2 is associated with an investigation of fish passage conditions at the large lock chamber of the Hiram M. Chittenden Locks and Lake Washington Ship Canal to identify effects on salmonids in the Lake Washington Basin. The study will help researchers (1) identify limiting factors contributing to smolt survival, (2) develop smolt survival estimates, and (3) assess restoration measures to improve smolt survival.

Study 3. The take in study 3 is associated with a study to document fish presence in various habitats in the Sammamish River. The research will provide information about juvenile salmonid habitat and restoration needs in the river.

Study 4. The take in study 4 is associated with research to determine juvenile salmon use of shoreline areas in Lake Washington and to guide restoration projects to enhance shoreline habitats.

Study 5. The COE requests additional annual takes of juvenile, naturally produced PS chinook salmon with an expansion of work locations associated with a new study (study 5) to be conducted on the Middle Green River. The objectives of this study are to measure the emergence, growth, instream migration, relative abundance, and species distribution of juvenile salmonids in the Green River. In addition, the COE will observe juvenile salmon responses during the Howard Hanson Dam (HHD) refill and release. The information will assist with (1) adaptive management aspects of the HHD Additional Water Storage Project to minimize impacts on the survival of emigrating juvenile salmon and steelhead, (2) determining the limiting factors affecting chinook salmon, and (3) provide information for the City of Tacoma’s Habitat Conservation Plan. The COE proposes to capture (using fyke nets, floating screw traps, dip nets, and backpack electrofishing equipment), anesthetize, handle, fin clip, and release 37,300 juvenile PS chinook salmon. The COE also requests indirect mortality of 102 PS chinook salmon associated with the study.

Study 6. The COE requests additional annual takes of juvenile naturally-produced PS chinook salmon with an expansion of work locations associated with a new study (study 6) to be conducted at the outlet of the Lake Washington Ship Canal. The purpose of the project is to restore downstream fish passage for salmon and steelhead smolts from the Lake Washington basin to Puget Sound. The restoration project will (1) reduce smolt entrainment into the large lock-filling culverts; (2) reduce smolt injury by entrainment reduction, slowing conduit velocities, and de-barnacling the conduits; and (3) add four, low-flow surface collectors (smolt slides) in two spillways. The COE proposes to capture (using purse seines), anesthetize, pit tag, handle, and release 80 juvenile PS chinook salmon. The COE also requests indirect mortality of two PS chinook salmon associated with the study.

Permit 1317-Modification 1

The USGS requests a modification to Permit 1317 that would increase annual takes of juvenile MCR steelhead and add pit tagging and radio tagging to sampling methods for research activities on the Toppenish National Wildlife Refuge (TNWR), Toppenish Creek, Washington. The purpose of the modification is to determine whether juvenile MCR steelhead enter the TNWR’s wetland management units during the spring flooding of Toppenish Creek and are trapped there, thus becoming vulnerable to avian predators, high summer water temperatures, and stranding. The study will show whether MCR steelhead are straying into the wetland management units and managing to escape back to Toppenish Creek to continue their downstream migration. The study will also be used to help guide TNWR operations so that the fish trapped in the management units are less likely to be harmed in the future. The USGS proposes to capture, weigh, measure, mark (pit tag and radio tag), and release 1,500 juvenile MCR steelhead. Baited minnow traps will be the primary capture method, but fyke nets or electrofishing may be used if the traps are not successful. The USGS also requests indirect mortality of 75 juvenile MCR steelhead associated with the study.

Permit 1322-Modification 1

The NWFSC requests a modification to permit 1322 for additional annual takes of ESA-listed salmonids in the Lower Columbia River estuary. The purpose of the study is to determine (1) the presence and abundance of fall and spring chinook salmon, coho salmon, and chum salmon in the estuary and Lower Columbia River; (2) determine the relationship between juvenile salmon and Lower Columbia River estuarine habitat; and (3) obtain information about flow change, sediment input, and habitat availability for the development of a numerical model. The study will serve as the basis for estuarine restoration and preservation plans for endangered salmonid stocks. The NWFSC proposes to beach seine near the Astoria Bridge and place trapnets in Cathlamet Bay. In addition to their current level of take, NWFSC proposes to capture (using beach seines and trap nets), anesthetize, scan for tags, measure, weigh, and release 38 juvenile UWR chinook salmon, 38 juvenile, naturally produced and 23 artificially propagated UCR chinook salmon, 1168 juvenile, LCR chinook salmon, 38 juvenile, naturally produced and 23 artificially propagated SnR spring/summer chinook salmon, and 565 juvenile, SnR fall chinook salmon. The NWFSC also requests an increase of one juvenile, SnR fall chinook salmon and 14 juvenile, LCR chinook salmon to sacrifice for stomach content analysis, scale, and otolith analyses. In addition, The NWFSC requests indirect mortality of two juvenile UWR chinook salmon, one juvenile, naturally produced and 37 artificially propagated UCR chinook salmon, 184 juvenile, LCR chinook salmon, eight juvenile, naturally produced and two artificially propagated SnR spring/summer chinook salmon, and 11 juvenile, SnR fall chinook salmon associated with the study.

Dated: April 9, 2002.
David O’Brien,
Acting Chief, Endangered Species Division, Office of Protected Resources, National Marine Fisheries Service.

[FR Doc. 02-8962 Filed 4-11-02; 8:45 am]

BILLING CODE 3510-22-S